DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 10, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Customer Service Survey Project.

OMB Control Number: 0579-0334.

Summary of Collection: The Animal Health Protection Act of 2002 (7 U.S.C. 8301, et seq.), authorizes the Secretary of the U.S. Department of Agriculture to prevent, control and eliminate domestic diseases such as tuberculosis and brucellosis and to take actions to prevent and to manage foreign animal diseases such as hog cholera, foot-and-mouth disease. The Veterinary Services (VS) program of the Animal and Plant Health Inspection Service (APHIS), USDA, carries out this work. This information collection solicits the beliefs and opinions of persons who use VS services and products. The survey is required to solicit information from the general public who utilize the business services and animal programs administered by the USDA, APHIS, and VS.

Need and Use of the Information: The data collected from the survey will provide the local Area Office Manager with a general view of the public's perception of customer service and indicate problems which can be addressed locally. The survey will also provide feedback from the public on recommendations to improve upon customer service and provide a vehicle in which questions can be asked about VS to educate the public.

Description of Respondents: Business or other for-profit; Farms; Individuals or households; Not-for-profit institutions; State, Local or Tribal Government.

Number of Respondents: 15,050.

Frequency of Responses: Reporting: On occasion.

Total Burden Hours: 800.

Ruth Brown,
Departmental Information Collection Clearance Officer.

[FR Doc. 2023-12368 Filed 6-8-23; 8:45 am]

BILLING CODE 3410-34-P